DEPARTMENT OF JUSTICE

Antitrust Division

Notice Pursuant to the National Cooperative Research and Production Act of 1993—ODVA, Inc.

Notice is hereby given that, on October 15, 2014, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, Aparian, Inc., Irvine, CA; Doosan Heavy Industrial & Construction Co., Ltd., Daejeon, REPUBLIC OF KOREA; FASTECH, Bucheon, REPUBLIC OF KOREA; Insight Automation, Inc., Erlanger, KY; K.A. Schmersal GmbH & Co. KG, Wuppertal, GERMANY; Nordson Corporation, Westlake, OH; Rocon L.L.C., Hazel Park, MI; and SAMWON ACT Co., Ltd., Busan, REPUBLIC OF KOREA, have been added as parties to this venture.

Also, Alstom Transport, Levallois-Perret, FRANCE; Altera Corporation, San Jose, CA; Beijing KLT Electric Co., Ltd., Beijing, PEOPLE'S REPUBLIC OF CHINA; Jacobs Automation, Hebron, KY; Jetter AG, Ludwigsburg, GERMANY; Monaghan Engineering, Inc., Dripping Springs, TX; Monduran Pty Ltd, Southport, AUSTRALIA; Secure Crossing, Dearborn, MI; Sierra Instruments, Monterey, CA; TDK-Lambda, Neptune, NJ; Thermo Scientific AquaSensors, Waltham, MA; Trebing + Himstedt, Schwerin, GERMANY; and Wolke Inks & Printers GmbH, Hersbruck, GERMANY, have withdrawn as parties to this venture.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on July 15, 2014. A notice was published in the Federal Register pursuant to Section 6(b) of the Act on August 11, 2014 (79 FR 46876).

Patricia A. Brink,
Director of Civil Enforcement, Antitrust Division.

[FR Doc. 2014-26332 Filed 11-4-14; 8:45 am]

BILLING CODE P